DEPARTMENT OF COMMERCE

National Oceanic and Atmospheric Administration

[I.D. 040207B]

Endangered Species; File No. 1547-01

AGENCY: National Marine Fisheries Service (NMFS), National Oceanic and Atmospheric Administration (NOAA), Commerce.

ACTION: Notice; issuance of permit modification.

SUMMARY: Notice is hereby given that the New York State Department of Environmental Conservation (Kathryn Hattala, Principal Investigator), 21 South Putt Corners Road; New Paltz, New York 12561, has been issued a modification to scientific research Permit Number 1547.

ADDRESSES: The permit modification and related documents are available for review upon written request or by appointment in the following offices:

Permits, Conservation and Education Division, Office of Protected Resources, NMFS, 1315 East-West Highway, Room 13705, Silver Spring, MD 20910; phone (301) 713-2289; fax (301) 427-2521; and

Northeast Region, NMFS, One Blackburn Drive, Gloucester, MA 01930-2298; phone (978) 281-9328; fax (978) 281-9394.

FOR FURTHER INFORMATION CONTACT: Malcolm Mohead or Brandy Hutnak, (301) 713-2289.

SUPPLEMENTARY INFORMATION: On February 23, 2007, notice was published in the Federal Register that a modification of Permit Number 1547, issued October 27, 2006, (71 FR 65470), had been requested by the above named organization. The requested permit modification has been granted under the authority of the Endangered Species Act of 1973, as amended (ESA; 16 U.S.C. 1531 et seq.) and the regulations governing the taking, importing, and exporting of endangered and threatened species (50 CFR parts 222-226).

In order to evaluate seasonal movement of shortnose sturgeon (Acipenser brevirostrum) in Haverstraw and Newburgh Bays of the Hudson River, the NYSDEC was previously authorized annually to capture a maximum of 500 adult and juvenile shortnose sturgeon with gill nets, and to measure, weigh, scan for tags, insert passive integrated transponder tags and Carlin tags (if untagged) and then release. The applicant now proposes to collect soft fin-ray tissue samples from all captured shortnose sturgeon. The goal of the additional research would be to document and map the genetic identity of shortnose sturgeon in the Hudson River. The modification would run concurrently with the original permit until October 31, 2011.

Issuance of this modification, as required by the ESA, was based on a finding that such permit (1) was applied for in good faith, (2) will not operate to the disadvantage of the endangered species which is the subject of this permit, and (3) is consistent with the purposes and policies set forth in section 2 of the ESA.

Dated: April 2, 2007.
P. Michael Payne,
Chief, Permits, Conservation and Education Division, Office of Protected Resources, National Marine Fisheries Service.

[FR Doc. E7-6484 Filed 4-5-07; 8:45 am]

BILLING CODE 3510-22-S